DEPARTMENT OF EDUCATION

National Educational Research Policy and Priorities Board; Meeting

AGENCY: National Educational Research Policy and Priorities Board; Education.

ACTION: Notice of quarterly meeting.

SUMMARY: This notice sets forth the schedule and proposed agenda of a forthcoming meeting of the National Educational Research Policy and Priorities Board. This notice also describes the functions of the Board. Notice of this meeting is required under section 10(a)(2) of the Federal Advisory Committee Act. This document is intended to notify the public of their opportunity to attend. Individuals who will need accommodations for a disability in order to attend the meeting (i.e., interpreting services, assistive listening devices, materials in alternative format) should notify Mary Grace Lucier at (202) 219-2253 no later than March 15. We will attempt to meet requests after this date, but cannot guarantee availability of the requested accommodation. The meeting site is accessible to individuals with disabilities.

Date: March 29, 2002.

Time: 9 a.m. to 4 p.m.

Location: Room 100, 80 F St., NW., Washington, DC 20208-7564.

FOR FURTHER INFORMATION CONTACT: Mary Grace Lucier, Designated Federal Official, National Educational Research Policy and Priorities Board, 80 F St., NW., Washington, DC 20208-7564. Telephone: (202) 219-2253; fax: (202) 219-1528; e-mail: Mary.Grace.Lucier@ed.gov. Main telephone for Board office: (202) 208-0692.

SUPPLEMENTARY INFORMATION: The National Educational Research Policy and Priorities Board is authorized by section 921 of the Educational Research, Development, Dissemination, and Improvement Act of 1994. The Board works collaboratively with the Assistant Secretary for the Office of Educational Research and Improvement to forge a national consensus with respect to a long-term agenda for educational research, development, and dissemination, and to provide advice and assistance to the Assistant Secretary in administering the duties of the Office.

The agenda for March 29 will cover a report from the National Research Council/National Academy of Sciences on the dissemination of a report of a study sponsored by the Board on Scientific Research in Education. The Board will also receive a briefing on legislation that will provide for improvement of Federal education research, statistics, evaluation, information, and dissemination. A final agenda will be available from the Board's office on March 22, and will be posted on the Board's web site, http://www.ed.gov/offices/OERI/NERPPB/.

Records are kept of all Board proceedings and are available for public inspection at the office of the National Educational Research Policy and Priorities Board, 80 F St. NW., Washington, DC 20208-7564.

Dated: March 1, 2002.
Rafael Valdivieso,
Executive Director.

[FR Doc. 02-5375 Filed 3-6-02; 8:45 am]

BILLING CODE 4000-01-M